DEPARTMENT OF VETERANS AFFAIRS

[OMB Control No. 2900-0798]

Agency Information Collection Activity Under OMB Review: Veteran/Beneficiary Claim for Reimbursement of Travel Expenses

AGENCY: Veterans Health Administration, Department of Veterans Affairs.

ACTION: Notice.

SUMMARY: In compliance with the Paperwork Reduction Act (PRA) of 1995, this notice announces that the Veterans Health Administration, Department of Veterans Affairs (VA), will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0798.”

FOR FURTHER INFORMATION CONTACT: Maribel Aponte, (202) 266-4688, vacopaperworkreduact@va.gov. Please refer to “OMB Control No. 2900-0798” in any correspondence.

SUPPLEMENTARY INFORMATION:

Authority: 44 U.S.C. 3501-3521.

Title: Veteran/Beneficiary Claim for Reimbursement of Travel Expenses (VA Form 10-3542 and BTSSS).

OMB Control Number: 2900-0798.

Type of Review: Reinstatement, with change, of a previously approved collection.

Abstract: Pursuant to 38 U.S.C. 111 and 38 CFR part 70, subpart A, the Veterans Health Administration (VHA) Beneficiary Travel (BT) Program provides payments for authorized travel expenses to help Veterans and other beneficiaries obtain care or services from VHA or VA-authorized providers in the community. VHA must administer payments according to statutory mandates, including the Payment Integrity Information Act of 2019 (PIIA) (Pub. L. 116-117). In compliance with the PIIA and other program requirements, VHA must gather certain information to determine whether BT eligibility and other criteria for approval have been met, and the amount of payment or reimbursement that is authorized under the BT program.

Claimants may include Veterans and other BT beneficiaries, as well as entities or individuals who provided or paid for travel. Claimants may apply for BT orally or in writing through VA Form 10-3542 or the Beneficiary Travel Self-Service System (BTSSS). This standard collection of information is necessary to enable VHA to provide this benefit and appropriately ensure that funds are being paid to the correct claimant.

An agency may not conduct or sponsor, and a person is not required to respond to a collection of information unless it displays a currently valid OMB control number. The Federal Register Notice with a 60-day comment period soliciting comments on this collection of information was published at 89 FR 15928, March 5, 2024.

Total Annual Burden: 1,216,667 hours.

Total Annual Responses: 7,300,000.

Affected Public: Individuals or Households.

Estimated Annual Burden: 1,216,667 hours.

Estimated Average Burden Per Response: 10 minutes.

Frequency of Response: Average of 5 times per year.

Estimated Number of Respondents: 1,460,000.

By direction of the Secretary.
Maribel Aponte,
VA PRA Clearance Officer, Office of Enterprise and Integration, Data Governance Analytics, Department of Veterans Affairs.

[FR Doc. 2024-10461 Filed 5-13-24; 8:45 am]

BILLING CODE 8320-01-P